DEPARTMENT OF ENERGY

Federal Energy Regulatory Commission

[Docket No. RM01-5-000]

Electronic Tariff Filings; Notice of Technical Conferences

August 3, 2005.

Take notice that several technical conferences will be held to address certain specific issues related to the electronic tariff and rate case filing software that has been developed in connection with the Commission's Notice of Proposed Rulemaking requiring electronic tariff filings. Electronic Tariff Filings, Notice of Proposed Rulemaking, 69 FR 43929 (July 23, 2004), FERC Stats. & Regs., Proposed Regulations ¶ 32,575 (July 8, 2004). Pursuant to the Commission's July 6, 2005 Notice, Commission staff is arranging meetings with the test companies and the industry to develop the electronic software.¹

¹ Electronic Tariff Filings, Notice of Additional Proposals and Procedures, 70 FR 40941 (July 15, 2005), 112 FERC ¶ 61,043 (2005).

These meetings will address the tariff filing definitions used for electronic filing and the attachments that are required, in accordance with the Commission's regulations, for each tariff filing type. The conferences will be held at the Commission's offices, 888 First Street, NE., Washington, DC. All interested persons are invited to attend.

The dates of the technical conferences and the regulatory sections to be discussed are as follows:

Industry | Date | Time and room location | Agenda
Natural Gas Act Pipelines | August 9, 2005 | 9 a.m. EDT, Room 3M-3 | Parts 154 and 385.
Natural Gas Policy Act Pipelines | August 9, 2005 | 1 p.m. EDT (After NGA pipelines), Room 3M-3 | Section 284.123 and Part 385.
Federal Power Act Public Utilities | August 10, 2005 | 1 p.m. EDT, Room 3M-3 | Parts 35 and 385.
Interstate Commerce Act Pipelines | August 18, 2005 | 10 a.m. EDT, Room 3M-2A | Parts 341, 342, 344, 346, 347, 348 and 385.

The conferences are open to the public to attend. Those planning to attend are encouraged to notify Keith Pierce to ensure sufficient space is available. Parties who wish to participate by teleconference must pre-register 2 business days prior to the date of the meeting with the contact listed below.

As discussed in the July 6, 2005 Commission Notice, once the changes to the Commission's software have been completed, another technical conference will be held. A separate notice will be issued for that conference.

FERC conferences are accessible under section 508 of the Rehabilitation Act of 1973. For accessibility accommodations please send an e-mail to accessibility@ferc.gov or call toll free 1-866-208-3372 (voice) or 202-208-1659 (TTY), or send a FAX to 202-208-2106 with the required accommodations.

For more information about these conferences, please contact Keith Pierce, Office of Markets, Tariffs and Rates at (202) 502-8525 or Keith.Pierce@ferc.gov.

Linda Mitry,
Deputy Secretary.

[FR Doc. E5-4289 Filed 8-8-05; 8:45 am]

BILLING CODE 6717-01-P